DEPARTMENT OF TRANSPORTATION

Federal Aviation Administration

14 CFR Part 71

[Airspace Docket No. 02-AAL-1]

Revision of Class E Airspace; Cordova, AK

AGENCY: Federal Aviation Administration (FAA), DOT.

ACTION: Final Rule.

SUMMARY: This action revises Class E airspace at Cordova, AK. It was determined that additional Class E surface area airspace is needed to protect instrument flight rules (IFR) operations at Cordova, AK. The additional Class E surface area airspace will ensure that aircraft executing straight-in standard instrument approach procedures to Runway 27 remain within controlled airspace. This rule provides adequate controlled airspace for aircraft flying instrument (IFR) procedures at Cordova, AK.

EFFECTIVE DATE: 0901 UTC, October 3, 2002.

FOR FURTHER INFORMATION CONTACT: Derril Bergt, AAL-538, Federal Aviation Administration, 222 West 7th Avenue, Box 14, Anchorage, AK 99513-7587; telephone number (907) 271-2796; fax: (907) 271-2850; e-mail: Derril.CTR.Bergt@faa.gov. Internet address: http://www.alaska.faa.gov/at or at address http://162.58.28.41/at.

SUPPLEMENTARY INFORMATION:

History

On February 6, 2002, a proposal to amend part 71 of the Federal Aviation Regulations (14 CFR part 71) to revise the Class E airspace at Cordova, AK, was published in the Federal Register (67 FR 5531). An extension to Class E surface area airspace was proposed to ensure that aircraft flying instrument approach procedures aligned with Runway 27 at the Merle K. (Mudhole) Smith airport are entirely contained within controlled airspace. The Notice of Proposed Rulemaking (NPRM) also proposed to re-designate some E2 airspace to E4 airspace. This proposal was made to comply with the current definition of Class E4 airspace as stated in paragraph 6004 of FAA Order 7400.9J, Airspace Designations and Reporting Points, dated September 1, 2001 and effective September 16, 2001, which is incorporated by reference in 14 CFR 71.1. Paragraph 6004 defines Class E4 airspace as “Class E Airspace Areas Designated as an Extension to a Class D or Class E Surface Area.” Subsequently, it has been determined by the FAA Airspace Management Branch, ATA-400, in Washington DC that this definition is incorrect. Paragraph 6004 is being amended to read: “Class E Airspace Areas Designated as an Extension to a Class D Surface Area.” Therefore, all Cordova Merle K. (Mudhole) Smith airport surface area airspace is designated as Class E2 airspace. Coordinates were also changed, to correctly define the intersection of the line that constitutes the north boundary of the Class E2 surface area airspace, with the 4.1 mile radius circle around the airport. Interested parties were invited to participate in this rulemaking proceeding by submitting written comments on the proposal to the FAA. No public comments have been received, thus, the rule is adopted as written.

The area will be depicted on aeronautical charts for pilot reference. The coordinates for this airspace docket are based on North American Datum 83. The Class E airspace areas designated as surface areas are published in paragraph 6002 of FAA Order 7400.9J, Airspace Designations and Reporting Points, dated September 1, 2001, and effective September 16, 2001, which is incorporated by reference in 14 CFR 71.1. The Class E airspace designation listed in this document will be revoked and revised subsequently in the Order.

The Rule

This amendment to 14 CFR part 71 revises the Class E airspace at Cordova, Alaska. An addition to Class E controlled airspace is necessary to contain IFR operations at Cordova, AK. The intended effect of this proposal is to provide adequate controlled airspace for instrument (IFR) operations at Merle K. (Mudhole) Smith airport, Cordova, Alaska.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71— DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9J, Airspace Designations and Reporting Points, dated August 31, 2001, and effective September 16, 2001, is amended as follows:

* * * * *

Paragraph 6002 Class E airspace designated as a surface area for an airport.

* * * * *

AAL AK E2 Cordova, AK [Revised]

Cordova, Merle K. (MUDHOLE) Smith Airport, AK

(Lat. 60°29′31″ N., long. 145°28′39″ W.)

Glacier River NDB

(Lat. 60°29′56″ N., long. 145°28′28″ W.)

Within a 4.1 mile radius of the Merle K. (Mudhole) Smith airport and within 2.1 miles each side of the 222° bearing from the Glacier River NDB extending from the 4.1 mile radius to 10 miles southwest of the airport and within 2 miles either side of the 060° bearing from the Glacier River NDB extending from the 4.1-mile radius to 6 miles northeast of the airport and within 2.2 miles each side of the 142° bearing from the NDB extending from the 4.1-mile radius to 10.4 miles southeast of the airport, excluding that airspace north of a line from lat. 60°31′00″ N, long. 145°20′00″ W; to lat. 60°31′03″ N, long. 145°20′59″ W.

* * * * *

Issued in Anchorage, AK, on July 1, 2002.
Stephen P. Creamer,
Assistant Manager, Air Traffic Division, Alaskan Region.

[FR Doc. 02-18620 Filed 7-24-02; 8:45 am]

BILLING CODE 4910-13-P